DEPARTMENT OF TRANSPORTATION

Research and Special Programs Administration

Office of Hazardous Materials Safety; Notice of Applications for Exemptions

AGENCY: Research and Special Programs Administration, DOT.

ACTION: List of applicants for exemptions.

SUMMARY: In accordance with the procedures governing the application for, and the processing of, exemptions from the Department of Transportation's Hazardous Materials Regulations (49 CFR part 107, subpart B), notice is hereby given that the Office of Hazardous Materials Safety has received the applications described herein. Each mode of transportation for which a particular exemption is requested is indicated by a number in the “Nature of Application” portion of the table below as follows: 1—Motor Vehicle, 2—Rail freight, 3—Cargo vessel, 4—Cargo aircraft only, 5—Passenger-carrying aircraft.

DATES: Comments must be received on or before September 26, 2002.

Address Comments to: Records Center, Research and Special Programs Administration, U.S. Department of Transportation, Washington, DC 20590.

Comments should refer to the application number and be submitted in triplicate. If confirmation of receipt of comments is desired, include a self-addressed stamped postcard showing the exemption application number.

FOR FURTHER INFORMATION CONTACT: Copies of the application (See Docket Number) are available for inspection at the New Docket Management Facility, PL-401, at the U.S. Department of Transportation, Nassif Building, 400 7th Street, SW., Washington, DC 20590 or at http://dms.dot.gov.

This notice of receipt of applications for new exemptions is published in accordance with part 107 of the Federal hazardous materials transportation law (49 U.S.C. 5117(b); 49 CFR 1.53(b)).

Issued in Washington, DC, on August 22, 2002.
R. Ryan Posten,
Exemptions Program Officer, Office of Hazardous Materials Exemptions and Approvals.

New Exemptions
Application No. | Docket No. | Applicant | Regulation(s) affected | Nature of exemption thereof
13057-N | RSPA-02-12819 | MINTEQ International Inc., Easton, PA | 49 CFR 172 Subparts D, E & F, 173.24(c) Subparts E&F of Part 173 | To authorize the transportation in commerce of metal tubing containing hazardous materials to be transported with minimal regulation. (modes 1, 2, 3)
13076-N | RSPA-02-12820 | Pencor Reservoir Fluid Specialists, Broussard, LA | 49 CFR 173.34(d), 178.35(e) | To authorize the transportation in commerce of non-DOT specification cylinders manufactured under DOT-E 11990 without the rupture disk pressure relief device for use in transporting various classes of hazardous materials. (modes 1, 2, 3, 4)
13077-N | RSPA-02-12821 | MacIntyre, Middlebury, VT | 49 CFR 174.67(i) & (j) | To authorize rail cars to remain standing with dry brake on during unloading without the physical presence on an unloader. (mode 2)
13078-N | RSPA-02-13000 | E.I. duPont de Nemours & Co., Wilmington, DE | 49 CFR 173.31(b)(3)(i), 173.31(b)(4)(i) | To authorize the transportation in commerce of tank cars without head and thermal protection for use in transporting Class 2 material. (mode 2)
13080-N | RSPA-02-12999 | Pressed Steel Tank Co., Milwaukee, WI | 49 CFR 173.300a, 173.301(h), 173.304, 173.34(e) | To manufacture, marking, sale and use of non-DOT specification cylinders conforming to the UN-marked cylinder for use in transporting Division 2.3. (modes 1, 2, 3)
13081-N | RSPA-02-12998 | Industrial Equipment & Engineering, Inc., Westlake, LA | 49 CFR 172.102, 173.243(c), 173.32(c) | To authorize the transportation in commerce of Class 8 hazardous materials in certain non-DOT specification portable tanks. (mode 1)
13082-N | RSPA-02-12997 | M&M Oil, Inc., Johns Island, SC | 49 CFR 178.337-13(d) | To authorize the transportation in commerce of non-DOT specification cargo tank for use in Division 2.1 hazardous materials. (mode 1)
13083-N | RSPA-02-12994 | Rockwood Pigments NA, Inc., St. Louis, MO | 49 CFR 172, 101 (SP IB6 or IP2) | To authorize the transportation in commerce of self-heating, solid, organic, n.o.s. in flexible intermediate bulk containers not to exceed 2,500 lbs. (modes 1, 2, 3)
13084-N | RSPA-02-12995 | Schering-Plough Veterinary Operations, Inc., Baton Rouge, LA | 49 CFR 173.150(f) | To authorize the transportation in commerce of flammable liquids, n.o.s. in 75-gallon stainless steel tanks between two facilities with minimal regulation. (mode 1)
13085-N | RSPA-02-13041 | Hercules Incorporated, Parlin, NJ | 49 CFR 174.67(i) & (j) | To authorize rail cars to remain connected while standing without the physical presence of an unloader. (mode 2)
13087-N | RSPA-02-13045 | Superior Oil Company, Inc., Indianapolis, IN | 49 CFR 173.243(d)(1)(i) | To authorize the transportation in commerce of Class 8 material in bulk containers (DOT-57 portable tanks and UN31A/Y intermediate bulk containers). (mode 1)
13088-N | RSPA-02-13042 | Air Products & Chemicals, Inc., Allentown, PA | 49 CFR 173.192, 173.40, 178.604 | To authorize the transportation in commerce of Division 2.3, 6.1 & Class 8 hazardous material in specially designed stainless steel containers overpacked in reusable 30-gallon steel containers. (modes 1, 3, 4)
13091-N | RSPA-02-13039 | Entegris, Inc., Chaska, MN | 49 CFR 172.101 Col. 7 IB3 | To authorize the manufacture, mark, sale and use of ammonia solutions, Class 8, in intermediate bulk containers. (mode 1)
13092-N | RSPA-02-13040 | Aztec Peroxides, L.L.C., Elyria, OH | 49 CFR 173.225(e) | To authorize the transportation in commerce of certain organic peroxides, Division 5.2 in DOT-Specification cargo tanks. (mode 1)

[FR Doc. 02-21781 Filed 8-26-02; 8:45 am]

BILLING CODE 4910-60-M